NATIONAL SCIENCE FOUNDATION

National Science Board; Sunshine Act Meetings; Notice

The National Science Board, pursuant to NSF regulations (45 CFR part 614), the National Science Foundation Act, as amended (42 U.S.C. 1862n-5), and the Government in the Sunshine Act (5 U.S.C. 552b), hereby gives notice in regard to the scheduling of a teleconference meeting of the Committee on Programs and Plans (CPP) for the transaction of National Science Board business.

AGENCY HOLDING MEETING: National Science Board.

DATE AND TIME: Thursday, August 16, 2012 from 1:00-2:00 p.m.

SUBJECT MATTER: Chairman's remarks and a proposal for approval of revisions to the Advanced Laser Interferometer Gravity Wave Observatory (AdvLIGO).

STATUS: Closed.

PLACE: This meeting will be held by teleconference originating at the National Science Board Office, National Science Foundation, 4201Wilson Blvd., Arlington, VA 22230.

UPDATES: Please refer to the National Science Board Web site www.nsf.gov/nsb for additional information. Meeting information and schedule updates (time, place, subject matter or status of meeting) may be found at http://www.nsf.gov/nsb/notices/.

AGENCY CONTACT: Jacqueline Meszaros, jmeszaro@nsf.gov, (703) 292-7000.

Ann Bushmiller,
NSB Senior Legal Counsel.

[FR Doc. 2012-19921 Filed 8-9-12; 4:15 pm]

BILLING CODE 7555-01-P